FEDERAL COMMUNICATIONS COMMISSION

47 CFR Part 32

[WC Docket No. 02-269; CC Docket No. 00-199; CC Docket No. 80-286; CC Docket No. 99-301; FCC 03-326]

Federal-State Joint Conference on Accounting Issues

AGENCY: Federal Communications Commission.

ACTION: Notice of proposed rulemaking.

SUMMARY: This document seeks comment on recommendations by the Federal-State Joint Conference on Accounting Issues (Joint Conference).

DATES: Comments are due on January 30, 2004, and reply comments are due on February 17, 2004.

FOR FURTHER INFORMATION CONTACT: Jane E. Jackson, Associate Chief, Wireline Competition Bureau, (202) 418-1500.

SUPPLEMENTARY INFORMATION: This is a summary of the Commission's Notice of Proposed Rulemaking adopted on December 17, 2003, and released on December 23, 2003. The full text of the document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone (202) 863-2893, facsimile (202) 863-2898, e-mail qualexint@aol.com.

Synopsis of Order

In this Notice of Proposed Rulemaking, comment is sought on recommendations of the Joint Conference. The Commission convened the Joint Conference on August 27, 2002, as a Federal-State partnership to reexamine regulatory accounting requirements, and recommend additions and modifications thereto. On October 9, 2003, the Joint Conference submitted the result of a year-long study of the Commission's accounting rules and on-going proceedings related to the Commission's accounting requirements. Here, comment is sought on those recommendations. Comment also is sought on further delaying the implementation of four accounting and reporting rule changes, to allow time for receipt and consideration of comments responding to the Joint Conference's recommendations with regard to the four rule changes.

Federal Communications Commission.
William F. Caton,
Deputy Secretary.

[FR Doc. 03-32148 Filed 12-30-03; 8:45 am]

BILLING CODE 6712-01-M